DEPARTMENT OF EDUCATION

Privacy Act of 1974; System of Records—Federal Student Aid Application File

AGENCY: Federal Student Aid, Department of Education.

ACTION: Notice of altered system of records.

SUMMARY: In accordance with the Privacy Act of 1974, as amended (Privacy Act), 5 United States Code (U.S.C.) 552a, the Acting Chief Operating Officer for Federal Student Aid (FSA) of the U.S. Department of Education (the Department) publishes this notice proposing to revise the system of records for the Federal Student Financial Aid Application File (18-11-01), 64 Federal Register (FR) 30159-30161 (June 4, 1999), as corrected by 64 FR 72384, 72407 (December 27, 1999), as corrected by 65 FR 11294-11295 (March 2, 2000), as corrected by 66 FR 18758 (April 11, 2001), as altered by 74 FR 68802-68808 (December 29, 2009). This system of records contains information provided by applicants for Title IV of the Higher Education Act of 1965, as amended, (HEA) program assistance, which is collected from the Free Application for Federal Student Aid (FAFSA). Among other purposes described in this notice, the information collected is maintained in order to determine an applicant's eligibility for the Federal student financial assistance programs authorized by Title IV of the HEA; make a loan, grant, or scholarship; and verify the identity of the applicant.

This altered system of records includes records on individuals who are applying for Title IV, HEA program assistance. The records contain individually identifying information about an applicant, including, but not limited to: An applicant's name, address, Social Security number (SSN), date of birth, citizenship status, status as a veteran, driver's license number, marital status, and income and asset information. This altered system also contains information provided by the parent(s) of a dependent applicant, including, but not limited to: Name, date of birth, marital status, SSN, highest level of schooling completed, e-mail address, and income and asset information. This altered system of records also contains information about spousal income and asset information of a married applicant.

This notice proposes to expand the categories of individuals on whom records are maintained, to add two new purposes to the system of records, to expand a programmatic routine use disclosure, and to add a new programmatic routine use disclosure that was inadvertently deleted when the system of records was last altered. The notice would expand the individuals covered by the system to include secondary school students about whom requesting entities, such as schools, local educational agencies, and other local and State agencies, submit information (e.g., name, date of birth, and zip code) to the Department in order for the Department to provide these entities with the student's FAFSA completion filing status to promote and encourage the student to apply for Title IV, HEA program assistance, State assistance, and aid awarded by institutions of higher education.

The notice also would add two new purposes to this system of records, which would specify that the purposes of the system are (1) to determine the eligibility of applicants for the award of State postsecondary education assistance and for the award of aid by eligible institutions of higher education or other entities designated by the Secretary and to administer those awards, and (2) to promote and encourage application for Title IV, HEA program assistance, State assistance, and aid awarded by institutions of higher education or other entities designated by the Secretary.

In addition, the notice proposes to expand a current programmatic routine use disclosure to permit the Department's disclosure of FAFSA completion information to a local educational agency (LEA) or secondary school where the student is or was enrolled, or other State, local, and private entities designated by the Secretary in order to facilitate and promote FAFSA completion. Specifically, a current programmatic routine use disclosure permits the Department to disclose a student's FAFSA filing status only to the student's LEA and secondary school in order to permit these entities to counsel the student about applying for financial aid and to offer the student assistance with the completion of the FAFSA. The Department proposes to expand this current programmatic routine use disclosure so that the Department may make disclosures for this same purpose to other local agencies, State agencies, and other entities designated by the Secretary in an effort to increase FAFSA completion rates within a State.

Finally, the Department proposes to add a new, programmatic routine use disclosure to the system that was inadvertently deleted when the system of records was last altered. This new routine use disclosure would permit the Department to disclose records from this system of records to State agencies, eligible institutions of higher education, and other entities designated by the Secretary in order to permit them to determine an applicant's eligibility for the award of State postsecondary education assistance or for the award of aid by eligible institutions of higher education or other entities designated by the Secretary and to administer those awards.

DATES: We must receive your comments on or before September 2, 2011.

The Department filed a report describing the altered system of records covered by this notice with the Chair of the Senate Committee on Homeland Security and Governmental Affairs, the Chair of the House Committee on Oversight and Government Reform, and the Administrator of the Office of Information and Regulatory Affairs in the Office of Management and Budget (OMB), on July 21, 2011. This altered system of records will become effective at the later date of—(1) The expiration of the 40-day period for OMB review on August 30, 2011; or (2) September 2, 2011, unless the system of records needs to be changed as a result of public comment or OMB review.

ADDRESSES: Address all comments about this altered system of records to: Director, Application Processing Division, Program Management Systems, Federal Student Aid, U.S. Department of Education, 830 First Street, NE., room 63C4, Union Center Plaza (UCP), Washington, DC 20202. If you prefer to send your comments by e-mail, use the following address: comments@ed.gov.

You must include the term “Federal Student Aid Application File” in the subject line of your electronic message.

During and after the comment period, you may inspect all public comments about this notice in room 63C5, Union Center Plaza (UCP), 6th floor, 830 First Street, NE., Washington, DC 20202 between the hours of 8:00 a.m. and 4:30 p.m., Washington, DC time, Monday through Friday except Federal holidays.

Assistance to Individuals With Disabilities in Reviewing the Rulemaking Record

On request, we will supply an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Director, Application Processing Division, Program Management Systems, Federal Student Aid, U.S. Department of Education, 830 First Street, NE., room 63C4, UCP, Washington, DC 20202. Telephone: (202)377-3205. If you use a telecommunications device for the deaf (TDD), you can call the Federal Relay Service (FRS), toll free, at 1-800-877-8339.

Individuals with disabilities can obtain this document in an accessible format (e.g., braille, large print, audiotape, or computer diskette) on request to the contact person listed under this section.

SUPPLEMENTARY INFORMATION:

Introduction

The Privacy Act of 1974 (5 U.S.C. 552a(e)(4) and (11)) requires the Department to publish in the Federal Register this notice of an altered system of records. The Department's regulations implementing the Privacy Act are contained in the Code of Federal Regulations (CFR) in 34 CFR part 5b.

The Privacy Act applies to information about an individual that is maintained in a system of records from which information is retrieved by a unique identifier associated with the individual, such as a name or Social Security number (SSN). The information about each individual is called a “record,” and the system, whether manual or computer-based, is called a “system of records.”

The Privacy Act requires each agency to publish a system of records notice in the Federal Register and to submit, whenever the agency publishes a new system of records or significantly alters an established system of records, a report to the Administrator of the Office of Information and Regulatory Affairs, OMB. Each agency is also required to send copies of the report to the Chair of the Senate Committee on Homeland Security and Governmental Affairs and the Chair of the House of Representatives Committee on Oversight and Government Reform.

A system of records is considered “altered” whenever an agency expands the types or categories of information maintained, significantly expands the types or categories of individuals about whom records are maintained, changes the purpose for which the information is used, changes the equipment configuration in a way that creates substantially greater access to the records, or adds a routine use disclosure to the system.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 28, 2011.
James W. Runcie,
Acting Chief Operating Officer, Federal Student Aid.

For the reasons discussed in the preamble, the Acting Chief Operating Officer, Federal Student Aid, of the U.S. Department of Education (Department), publishes a notice of an altered system of records to read as follows:

SYSTEM NUMBER:

18-11-01

SYSTEM NAME:

Federal Student Aid Application File.

SECURITY CLASSIFICATION:

None.

SYSTEM LOCATIONS:

Virtual Data Center (VDC), 2300 W. Plano Parkway, Plano, TX 75075 (Electronic records).

Vangent, 901 South 42nd Street, Mt Vernon, IL 62864 (Paper, Free Application for Federal Student Aid (FAFSA) Applications Storage Facility).

CATEGORIES OF INDIVIDUALS COVERED BY THE SYSTEM:

The Federal Student Aid Application File (the system), which is part of the Department's Central Processing System (CPS), contains records on students who apply for Federal student financial assistance programs authorized by Title IV of the Higher Education Act of 1965, as amended (HEA). This system also contains information on the parent(s) of a dependent applicant and the spouse of a married applicant. In addition, this system covers secondary school students about whom requesting entities, such as schools, local educational agencies (LEAs), and other local and State agencies, submit information (e.g., name, date of birth, and zip code) to the Department in order for the Department to provide these entities with the student's Free Application for Federal Student Aid (FAFSA) completion filing status to promote and encourage the student to apply for Title IV, HEA program assistance, State assistance, and aid awarded by institutions of higher education.

CATEGORIES OF RECORDS IN THE SYSTEM:

This system of records contains information provided by applicants for Title IV, HEA program assistance, on the FAFSA, including, but not limited to, the applicant's name, address, Social Security number (SSN), date of birth, telephone number, driver's license number, e-mail address, citizenship status, marital status, legal residence, status as a veteran, educational status, and financial data. This system also contains information provided about the parent(s) of a dependent applicant, including, but not limited to, the parent's highest level of schooling completed, marital status, SSN, last name and first initial, date of birth, e-mail address, number in household supported by the parent, and income and asset information. For an applicant who is married, this system of records also contains spousal income and asset information.

While using this system to analyze its student population data for verification selection via the Institutional Student Information Record (ISIR) Analysis Tools (IA Tools) product, postsecondary institution(s) attended by the applicant may create user defined fields with institutional data that are saved to the system. These data elements may consist of information that is privacy protected. Examples include, but are not limited to: The student's grade point average or information about a student's employment with the postsecondary institution.

The system determines an applicant's expected family contribution (EFC). The EFC is used by institutions to determine the student's eligibility for Federal and institutional program assistance, and by States to determine the student's eligibility for State grants. The Department notifies the applicant of the results of his or her application via the Student Aid Report (SAR). The Department provides the institutions identified on the applicant's FAFSA with the ISIR, which indicates whether there are discrepant or insufficient data, school adjustments, or CPS assumptions that affect processing of the FAFSA. Other information that the system includes, but is not limited to: Secondary EFC, dependency status, Federal Pell Grant Eligibility, duplicate SSN, selection for verification, Simplified Needs Test (SNT) or Automatic Zero EFC (used for extremely low family income), CPS processing comments, reject codes (explanation for applicant's FAFSA not computing EFC), assumptions made with regard to the student's data due to incomplete or inconsistent FAFSA data, financial aid administrator's (FAA) adjustments including dependency status overrides, and CPS record processing information (application receipt date, transaction number, transaction process date, SAR Serial Number, Compute Number, Data Release Number (DRN), National Student Loan Database System (NSLDS) match results, a bar code, and transaction source).

Information from other Department systems, such as NSLDS, the Common Origination and Disbursement System (COD), and the Student Aid Internet Gateway (SAIG) Participation Management System, is added to this system of records. The Appendix contains a more detailed description of the data added to this system of records as a result of the exchanges of data with other Department systems and the Department's computer matching programs with other Federal agencies.

AUTHORITY FOR MAINTENANCE OF THE SYSTEM:

Title IV of the Higher Education Act (HEA), as amended (20 U.S.C. 1001 et seq.).

PURPOSES:

The information contained in this system is maintained for the purposes of: (1) Assisting with the determination, correction, processing, tracking, and reporting of program eligibility and benefits for the Federal student financial assistance programs authorized by Title IV of the HEA; (2) making a loan, grant, or scholarship; (3) verifying the identity of the applicant, the spouse if applicable, and the parent(s) of a dependent applicant, and the accuracy of the information in this system; (4) reporting the results of the need analysis, Federal Pell Grant eligibility determination, and the results of duly authorized computer matching programs between the Department and other Federal agencies to applicants, postsecondary institutions, third-party servicers, State agencies designated by the applicant, and other Departmental and investigative components for use in operating and evaluating the Title IV, HEA programs and in the imposition of criminal, civil, or administrative sanctions; (5) enforcing the terms and conditions of a Title IV, HEA loan or grant; (6) servicing and collecting a delinquent Title IV, HEA loan or grant; (7) initiating enforcement action against an individual involved in program fraud, abuse, or noncompliance; (8) locating a debtor; (9) maintaining a record of the data supplied by those requesting assistance; (10) ensuring compliance with and enforcing Title IV, HEA programmatic requirements; (11) acting as a repository and source for information necessary to fulfill the requirements of Title IV of the HEA; (12) evaluating Title IV, HEA program effectiveness; (13) enabling institutions of higher education designated by the applicant to review and analyze the financial aid data of their applicant population; (14) assisting students with the completion of the application for the Federal student financial assistance programs authorized by Title IV of the HEA; (15) determining the eligibility of applicants for the award of State postsecondary education assistance and for the award of aid by eligible institutions of higher education or other entities designated by the Secretary and administering those awards; and 16) promoting and encouraging application for Title IV, HEA program assistance, State assistance, and aid awarded by institutions of higher education or other entities designated by the Secretary.

ROUTINE USES OF RECORDS MAINTAINED IN THE SYSTEM, INCLUDING CATEGORIES OF USES AND PURPOSES OF SUCH USES:

The Department may disclose information contained in a record in this system of records under the routine uses listed in this system of records without the consent of the individual if the disclosure is compatible with the purposes for which the record was collected. These disclosures may be made on a case-by-case basis, or, if the Department has complied with the computer matching requirements of the Privacy Act of 1974, as amended (Privacy Act), under a computer matching agreement.

(1) Program Disclosures.

(a) To verify the identity of the applicant and the applicant's spouse, if applicable, and the parent(s) of a dependent applicant; to determine the accuracy of the information contained in the record; to support compliance with Title IV, HEA statutory and regulatory requirements; and to assist with the determination, correction, processing, tracking, and reporting of program eligibility and benefits, the Department may disclose records to guaranty agencies and financial institutions participating in the Federal Family Education Loan (FFEL) Programs, institutions of higher education, third-party servicers, and Federal and State agencies;

(b) To provide an applicant's financial aid history, including information about the applicant's Title IV, HEA loan defaults and Title IV, HEA grant program overpayments, the Department may disclose records to institutions of higher education, guaranty and State agencies, financial institutions participating in the FFEL Programs, and third-party servicers;

(c) To facilitate receiving and correcting application data, processing Federal Pell Grants and Direct Loans, and reporting Federal Perkins Loan Program expenditures to the Department's processing and reporting systems, the Department may disclose records to institutions of higher education, State agencies, and third-party servicers;

(d) To assist loan holders with the collection and servicing of Title IV, HEA loans, to support pre-claims/supplemental pre-claims assistance, to assist in locating borrowers, and to assist in locating students who owe grant overpayments, the Department may disclose records to guaranty agencies and financial institutions participating in the FFEL Programs, institutions of higher education, third-party servicers, and Federal, State, and local agencies;

(e) To facilitate assessments of Title IV, HEA program compliance, the Department may disclose records to guaranty agencies and financial institutions participating in the FFEL Programs, institutions of higher education, third-party servicers, and Federal, State, and local agencies;

(f) To assist in locating holders of loan(s), the Department may disclose records to student borrowers, guaranty agencies and financial institutions participating in the FFEL Programs, institutions of higher education, third-party servicers, and Federal, State, and local agencies;

(g) To assist in assessing the administration of Title IV, HEA program funds by guaranty agencies, financial institutions, institutions of higher education, and third-party servicers, the Department may disclose records to Federal and State agencies;

(h) To enforce the terms of a loan or grant or to assist in the collection of loan or grant overpayments, the Department may disclose records to guaranty agencies and financial institutions participating in the FFEL programs, institutions of higher education, third-party servicers, and Federal, State, and local agencies;

(i) To assist borrowers in repayment, the Department may disclose records to guaranty agencies and financial institutions participating in the FFEL program, institutions of higher education, third-party servicers, and Federal, State, and local agencies;

(j) To initiate legal action against an individual involved in illegal or unauthorized Title IV, HEA program expenditures or activities, the Department may disclose records to guaranty agencies and financial institutions participating in the FFEL programs, institutions of higher education, third-party servicers, and Federal, State, and local agencies;

(k) To initiate or support a limitation, suspension, or termination action, an emergency action, or a debarment or suspension action, the Department may disclose records to guaranty agencies and financial institutions participating in the FFEL programs, institutions of higher education, third-party servicers, and Federal, State, and local agencies;

(l) To investigate complaints, update files, and correct errors, the Department may disclose records to guaranty agencies and financial institutions participating in the FFEL programs, institutions of higher education, third-party servicers, and Federal, State, and local agencies;

(m) To inform the parent(s) of a dependent applicant or a spouse of an applicant of information about the parent(s) or spouse in an application for Title IV, HEA funds, the Department may disclose records to the parent(s) or the spouse, respectively;

(n) To disclose to the parent(s) of a dependent applicant applying for a PLUS loan (to be used on behalf of a student), to identify the student as the correct beneficiary of the PLUS loan funds, and to allow the processing of the PLUS loan application and promissory note, the Department may disclose records to the parent(s) applying for the PLUS loan;

(o) To expedite the student application process, the Department may disclose information from this system, upon request by a third-party, provided that the third-party provides the Department with the applicant's first and last name, SSN, date of birth, and DRN. A DRN is a four-digit number assigned to an application by Federal Student Aid;

(p) To encourage a student to complete a FAFSA or to assist a student with the completion of a FAFSA, the Department may disclose the FAFSA filing status of the student to a LEA, a secondary school where the student is or was enrolled, or other State, local, or private entity designated by the Secretary;

(q) To enable an applicant, should the applicant wish to do so, to obtain information from other Federal agencies' records that will assist the applicant in completing the FAFSA online, the Department may disclose information from this system of records to other Federal agencies, such as the Internal Revenue Service; and

(r) To determine an applicant's eligibility for the award of State postsecondary education assistance and for the award of aid by eligible institutions of higher education or other entities designated by the Secretary and to administer those awards, the Department may disclose information from this system of records to State agencies, eligible institutions of higher education, and other entities designated by the Secretary.

(2) Disclosure for Use by Other Law Enforcement Agencies. The Department may disclose information to any Federal, State, local, or foreign agency or other public authority responsible for enforcing, investigating, or prosecuting violations of administrative, civil, or criminal law or regulation if that information is relevant to any enforcement, regulatory, investigative, or prosecutorial responsibility within the receiving entity's jurisdiction.

(3) Enforcement Disclosure. If information in the system of records, either alone or in connection with other information, indicates a violation or potential violation of any applicable statutory, regulatory, or legally binding requirement, the Department may disclose records to an entity charged with investigating or prosecuting those violations or potential violations.

(4) Litigation and Alternative Dispute Resolution (ADR) Disclosures.

(a) Introduction. In the event that one of the following parties is involved in litigation or ADR, or has an interest in litigation or ADR, the Department may disclose certain records to the parties described in paragraphs (b), (c), and (d) of this routine use under the conditions specified in those paragraphs:

(i) The Department or any of its components.

(ii) Any Department employee in his or her official capacity.

(iii) Any Department employee in his or her individual capacity where the Department of Justice (DOJ) agrees to or has been requested to provide or arrange for representation of the employee.

(iv) Any Department employee in his or her individual capacity where the Department has agreed to represent the employee.

(v) The United States, where the Department determines that the litigation is likely to affect the Department or any of its components.

(b) Disclosure to the DOJ. If the Department determines that disclosure of certain records to the DOJ is relevant and necessary to litigation or ADR, the Department may disclose those records as a routine use to the DOJ.

(c) Adjudicative Disclosures. If the Department determines that disclosure of certain records to an adjudicative body before which the Department is authorized to appear or to an individual or entity designated by the Department or otherwise empowered to resolve or mediate disputes is relevant and necessary to litigation or ADR, the Department may disclose those records as a routine use to the adjudicative body, individual, or entity.

(d) Parties, Counsel, Representatives, and Witnesses. If the Department determines that disclosure of certain records is relevant and necessary to litigation or ADR, the Department may disclose those records as a routine use to the party, counsel, representative, or witness.

(5) Freedom of Information Act (FOIA) and Privacy Act Advice Disclosure. The Department may disclose records to the DOJ or to the Office of Management and Budget (OMB) if the Department determines that disclosure would help in determining whether records are required to be disclosed under the FOIA or the Privacy Act.

(6) Contracting Disclosure. If the Department contracts with an entity to perform any function that requires disclosing records to the contractor's employees, the Department may disclose the records to those employees. Before entering into such a contract, the Department shall require the contractor to establish and maintain the safeguards required under 5 U.S.C. 552a(m) of the Privacy Act with respect to the records.

(7) Congressional Member Disclosure. The Department may disclose records to a member of Congress in response to an inquiry from the member made at the written request of the individual whose records are being disclosed. The member's right to the information is no greater than the right of the individual who requested it.

(8) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or other public authority or professional organization, in connection with the hiring or retention of an employee or other personnel action, the issuance of a security clearance, the reporting of an investigation of an employee, the letting of a contract, or the issuance of a license, grant, or other benefit, to the extent that the record is relevant and necessary to the receiving entity's decision on the matter.

(9) Employee Grievance, Complaint, or Conduct Disclosure. If a record is relevant and necessary to an employee grievance, complaint, or disciplinary action, the Department may disclose the record in the course of investigation, fact-finding, or adjudication to any witness, designated fact-finder, mediator, or other person designated to resolve issues or decide the matter.

(10) Labor Organization Disclosure. The Department may disclose records from this system of records to an arbitrator to resolve disputes under a negotiated grievance procedure or to officials of labor organizations recognized under 5 U.S.C. chapter 71 when relevant and necessary to their duties of exclusive representation.

(11) Disclosure to the DOJ. The Department may disclose records to the DOJ to the extent necessary for obtaining DOJ advice on any matter relevant to an audit, inspection, or other inquiry related to the programs covered by this system.

(12) Research Disclosure. The Department may disclose records to a researcher if the Department determines that the individual or organization to which the disclosure would be made is qualified to carry out specific research related to functions or purposes of this system of records. Further, the Department may disclose records from this system of records to that researcher solely for the purpose of carrying out that research related to the functions or purposes of this system of records. The researcher shall be required to maintain Privacy Act safeguards with respect to the disclosed records.

(13) Disclosure to the OMB for Federal Credit Reform Act (CRA) Support. The Department may disclose records to OMB as necessary to fulfill CRA requirements. These requirements currently include transfer of data on lender interest benefits and special allowance payments, defaulted loan balances, and supplemental pre-claims assistance payments information.

(14) Disclosures to third-parties through computer matching programs. Any information from this system of records, including personal information obtained from other agencies through computer matching programs, may be disclosed to any third-party through a computer matching program in connection with an individual's application or participation in any grant or loan program administered by the Department. Purposes of these disclosures may be to determine program eligibility and benefits, enforce the conditions and terms of a loan or grant, permit the servicing and collecting of a loan or grant, counsel the individual in repayment efforts, investigate possible fraud and verify compliance with program regulations, locate a delinquent or defaulted debtor, or initiate legal action against an individual involved in program fraud or abuse.

(15) Disclosure in the Course of Responding to Breach of Data. The Department may disclose records from this system to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

DISCLOSURE TO CONSUMER REPORTING AGENCIES:

Disclosures pursuant to 5 U.S.C. 552a(b)(12): The Department may disclose the following information to a consumer reporting agency regarding a valid overdue claim of the Department: (1) The name, address, taxpayer identification number, and other information necessary to establish the identity of the individual responsible for the claim; (2) the amount, status, and history of the claim; and (3) the program under which the claim arose. The Department may disclose the information specified in this paragraph under 5 U.S.C. 552a(b)(12) and the procedures contained in subsection 31 U.S.C. 3711(e). A consumer reporting agency to which these disclosures may be made is defined at 31 U.S.C. 3701(a)(3).

POLICIES AND PRACTICES FOR STORING, RETRIEVING, ACCESSING, RETAINING, AND DISPOSING OF RECORDS IN THE SYSTEM:

STORAGE:

Paper applications are maintained in standard Federal Records Center boxes in locked storage rooms at the contractor facility in Mt. Vernon, Illinois, and then moved to the Federal archives where the records are maintained.

Computerized applicant records, which include optically imaged documents, are maintained on magnetic tape reels, cartridges, and hard disks in the computer facility and locked storage rooms within the Virtual Data Center. Microfiche records maintained in the Washington, DC office are stored in a locked fireproof file cabinet. Access is available only to authorized personnel.

RETRIEVABILITY:

Records are indexed and retrieved by the applicant's SSN, name, and the academic year in which the applicant applied for Title IV, HEA program assistance.

SAFEGUARDS:

Physical access to the data systems housed within the VDC is controlled by a computerized badge reading system, and the entire complex is patrolled by security personnel during non-business hours. The computer system employed by the Department offers a high degree of resistance to tampering and circumvention. Multiple levels of security are maintained within the computer system control program. This security system limits data access to Department and contract staff on a “need-to-know” basis, and controls individual users' ability to access and alter records within the system. All users of this system of records are given a unique user ID with personal identifiers. All interactions by individual users with the system are recorded. Paper applications are maintained in standard Federal Records Center boxes in a locked storage room at the contractor facility in Mount Vernon, Illinois, and then moved to the Federal archives where the records are maintained.

RETENTION AND DISPOSAL:

The Department will retain all identifiable CPS records for a period not to exceed 15 years after the end of the award year in accordance with the applicable Record Retention Schedule as approved by the National Archives and Records Administration. At the conclusion of the mandatory retention period, these records will be destroyed consistent with legal retention requirements established by the Department in conjunction with the National Archives and Records Administration.

SYSTEM MANAGER(S) AND ADDRESS:

Director, Application Processing Division, Program Management Systems, Federal Student Aid, U.S. Department of Education, 830 First St., NE., UCP, room 63C4, Washington, DC 20202.

NOTIFICATION PROCEDURES:

If you wish to determine whether a record exists regarding you in the system of records, contact the system manager and provide your name, date of birth, and SSN or call 1-800-4-FED-AID (1-800-433-3243) and give the same information. Requests for notification about whether the system of records contains information about an individual must meet the requirements of the regulations at 34 CFR 5b.5, including proof of identity.

RECORD ACCESS PROCEDURES:

If you wish to gain access to a record in this system, contact the system manager and provide information as described in the Notification Procedure. Requests by an individual for access to a record must meet the requirements of the regulations at 34 CFR 5b.5, including proof of identity.

CONTESTING RECORD PROCEDURES:

If you wish to contest the content of a record for the current processing year (which begins on January 1 of the calendar year and continues for 18 months until June 30 of the following calendar year) in the FAFSA, contact the system manager with the information described in the Notification Procedure, identify the specific items to be changed, and provide a justification for the change. Requests to amend a record must meet the requirements of regulations at 34 CFR 5b.7.

RECORD SOURCE CATEGORIES:

Applicants for Federal student financial aid, their spouses (if married), and the parent(s) of dependent applicants provide the information used in this system by filing a phone, paper, or electronic version of the FAFSA with the Department of Education. (The electronic FAFSA can be accessed at http://www.fafsa.ed.gov.)

Postsecondary institutions designated by the applicant or third-party servicers designated by the postsecondary institution may correct the records in this system as a result of documentation provided by the applicant or by a dependent applicant's parents, such as Federal income return(s) (IRS Form 1040, IRS Form 1040A, or IRS Form 1040EZ), Social Security card(s), and Department of Homeland Security I-551 Resident Alien cards.

This system contains information added during CPS processing and information received from other Department systems, including NSLDS, COD, and the SAIG Participation Management System. For more information about the information received from these other Department systems, see the Appendix.

The results of computer matching programs with the following Federal agencies are also added to the student's record during CPS processing: The Social Security Administration (SSA), the Department of Veterans Affairs (VA), the Selective Service System (SSS), the Department of Homeland Security (DHS), the Department of Justice (DOJ), and the Department of Defense (DoD). For more information about the information received from these computer matching programs, see the Appendix.

EXEMPTIONS CLAIMED FOR THE SYSTEM:

None.

Appendix to 18-11-01

Additional Information about Categories of Records in the System and Record Source Categories:

Data provided to the Department as a result of computer matching with other Federal agencies are added during CPS processing. These computer matches are with the SSA to verify the SSNs of applicants, and dependent applicants' parent(s), and to confirm the U.S. citizenship status of applicants as recorded in SSA records and date of death (if applicable) of applicants, and dependent applicants' parents, pursuant to sections 428B(f)(2), 483(a)(12), and 484(g) and (p) of the HEA (20 U.S.C. 1078-2(f)(2), 1090(a)(12), and 1091(g) and (p)); with the VA to verify the status of applicants who claim to be veterans, pursuant to section 480(c) and (d)(1)(D) of the HEA (20 U.S.C. 1087vv(c) and (d)(1)(D)); with the SSS to confirm the registration status of male applicants, pursuant to section 484(n) of the HEA (20 U.S.C. 1091(n)); with the DHS to confirm the immigration status of applicants for assistance as authorized by section 484(g) of the HEA (20 U.S.C. 1091(g)); with the DOJ to enforce any requirement imposed at the discretion of a court, pursuant to section 5301 of the Anti-Drug Abuse Act of 1988, Public Law 100-690, as amended by section 1002(d) of the Crime Control Act of 1990, Public Law 101-647 (21 U.S.C. 862), denying Federal benefits under the programs established by Title IV of the HEA to any individual convicted of a State or Federal offense for the distribution or possession of a controlled substance; and with the DoD to identify dependents of U.S. military personnel who died in service in Iraq and Afghanistan after September 11, 2001, to determine if they are eligible for increased amounts of Title IV, HEA program assistance, pursuant to sections 420R and 473(b) of the HEA (20 U.S.C. 1070h and 1087mm(b)).

During CPS processing, the Department's COD system sends information to this system for students who have received a Federal Pell Grant. The CPS uses this information for verification analysis and for end-of-year reporting. These data include, but are not limited to: Verification Selection and Status, Potential Over-award Project (POP) indicator, Institutional Cost of Attendance, Reporting and Attended Campus Pell ID and Enrollment Date, and Federal Pell Grant Program information (Scheduled Federal Pell Grant Award, Origination Award Amount, Total Accepted Disbursement Amount, Number of Disbursements Accepted, Percentage of Eligibility Used At This Attended Campus Institution, and Date of Last Activity from the Origination or Disbursement table).

The CPS also receives applicant data from the Department's NSLDS system each time an application is processed or corrected. This process assesses student aid eligibility, updates financial aid history, and ensures compliance with Title IV, HEA regulations. Some of these data appear on the applicant's SAR and ISIR. Title IV, HEA award information is provided to NSLDS from several different sources. Federal Perkins Loan data and Federal Supplemental Educational Opportunity Grant (FSEOG) overpayment data are sent from postsecondary institutions or their third-party servicers; the Department's COD system provides Federal Pell Grant and Direct Loan data; and State and guaranty agencies provide data on FFEL loans received from lending institutions participating in the FFEL programs.

Financial aid transcript data reported by NSLDS provides applicants, postsecondary institutions, and third-party servicers with information about the type(s), amount(s), dates, and overpayment status of prior and current Title IV HEA funds the applicant received. FFEL and William D. Ford Federal Direct Student Loan (DL) data reported by NSLDS include, but are not limited to: (1) Aggregate Loan Data, such as Subsidized, Unsubsidized; Combined Outstanding Principal Balances; Unallocated Consolidated Outstanding Principal Balances, Subsidized, Unsubsidized; Combined Pending Disbursements, Subsidized, Unsubsidized; Combined Totals; and Unallocated Consolidated Totals; (2) Detail Loan Data, such as Loan Sequence Number; Loan Type Code; Loan Change Flag; Loan Program Code; Current Status Code and Date; Outstanding Principal Balance and Date; Net Loan Amount; Loan begin and End Dates; Amount and Date of Last Disbursement; Guaranty Agency Code; School Code; Contact Code; and Institution Type and Grade Level; and (3) system flags for Additional Unsubsidized Loan; Capitalized Interest; Defaulted Loan Change; Discharged Loan Change; Loan Satisfactory Repayment Change; Active Bankruptcy Change; Overpayments Change; Aggregate Loan Change; Defaulted Loan; Discharged Loan; Loan Satisfactory Repayment; Active Bankruptcy; Additional Loans; DL Master Promissory Note; DL PLUS Loan Master Promissory Note; Subsidized Loan Limit; and the Combined Loan Limit. Federal Perkins Loan data reported by NSLDS include, but are not limited to: Cumulative and Current Year Disbursement Amounts; flags for Perkins Loan Change; Defaulted Loan; Discharged Loan; Loan Satisfactory Repayment; Active Bankruptcy; Additional Loans; and Perkins Overpayment Flag and Contact (School or Region). Federal Pell Grant payment data reported include, but are not limited to: Pell Sequence Number; Pell Attended School Code; Pell Transaction Number; Last Update Date; Scheduled Amount; Award Amount; Amount Paid to Date; Percent Scheduled Award Used; Pell Payment EFC; Flags for Pell Verification; and Pell Payment Change. Federal Teacher Education Assistance for College and Higher Education (TEACH) Grant Program data include, but are not limited to: TEACH Grant Overpayment Contact; TEACH Grant Overpayment Flag; TEACH Grant Loan Principal Balance; TEACH Grant Total; and Teach Grant Change Flag. The National Science and Mathematics Access to Retain Talent Grant (SMART Grant) data include, but are not limited to: SMART Grant Overpayment Flag; SMART Grant Overpayment Contact; and SMART Grant Change Flag. Iraq and Afghanistan Service Grants data include, but are not limited to: Total Award Amount. Academic Competitiveness Grant (ACG) data include, but are not limited to: ACG Award Amount; ACG Overpayment Flag; and ACG Payment Change Flag. FSEOG data include, but are not limited to: Overpayment Flag and contact information.

The Department obtains and exchanges information that is included in this system of records from institutions offering secondary level education, local educational agencies, other local agencies, postsecondary institutions, third-party servicers, State agencies, and lending institutions that participate in the FFEL programs. These eligible entities register with the SAIG system to participate in the information exchanges specified for their business processes.

[FR Doc. 2011-19607 Filed 8-2-11; 8:45 am]

BILLING CODE 4000-01-P